DEPARTMENT OF TRANSPORTATION

National Highway Traffic Safety Administration

49 CFR Part 571

[Docket No. NHTSA-2023-0025]

Federal Motor Vehicle Safety Standards; Denial of Petition for Rulemaking

AGENCY: National Highway Traffic Safety Administration (NHTSA), U.S. Department of Transportation (DOT).

ACTION: Denial of petition for rulemaking.

SUMMARY: This document denies a February 12, 2019 petition for rulemaking submitted by Mr. Stevan Panin (“petitioner”) requesting that NHTSA amend Federal Motor Vehicle Safety Standard (FMVSS) No. 104 or create a new FMVSS to require the year-round use of a standardized winter specification windshield washer fluid to prevent accidents allegedly caused by obstructed visibility from frozen windshield washer fluid. NHTSA is denying this petition for rulemaking because the agency does not believe the petitioner has demonstrated there is an unmet safety need related to windshield washer fluid, or that a mandated standardized winter-specification windshield washer fluid would effectively decrease or prevent crashes and injuries or fatalities.

DATES: August 22, 2024.

FOR FURTHER INFORMATION CONTACT: Cynthia Collado, Safety Standards Engineer, Office of Rulemaking, National Highway Traffic Safety Administration, 1200 New Jersey Ave. SE, Washington, DC 20590, Telephone: 202-366-6294; or Natasha Reed, Office of Chief Counsel, National Highway Traffic Safety Administration, 1200 New Jersey Ave. SE, Washington, DC 20590, Telephone: 202-366-2992.

SUPPLEMENTARY INFORMATION:

Table of Contents

I. Background

II. Petition for Rulemaking

III. NHTSA's Analysis and Decision

A. The Petitioner Fails To Present Evidence of an Unmet Motor Vehicle Safety Need

B. The Petitioner Fails To Demonstrate That a Standardized Winter-Specification Windshield Washer Fluid Would Effectively Address an Unmet Motor Vehicle Safety Need

IV. Conclusion

I. Background

Under the National Traffic and Motor Vehicle Safety Act (the Safety Act), 49 U.S.C. Chapter 301, as amended, the National Highway Traffic Safety Administration (NHTSA) has the authority to issue Federal Motor Vehicle Safety Standards (FMVSS) for new motor vehicles and motor vehicle equipment. Each FMVSS must be practicable, meet the need for motor vehicle safety, and be stated in objective terms.

Petitions for rulemaking are governed by 49 CFR part 552. Pursuant to section 552.6, the agency conducts a technical review of the petition, which may consist of an analysis of the material submitted together with information already in possession of the agency. In deciding whether to grant or deny a petition, the agency considers this technical review as well as appropriate factors, which include, among others, allocation of agency resources and agency priorities.¹

¹ 49 CFR 552.8.

II. Petition for Rulemaking

The petitioner, Mr. Stevan Panin, submitted a letter and rulemaking petition dated February 12, 2019, regarding 49 CFR 571.104, “Windshield wiping and washing systems,” expressing concern that the use of summer and non-standardized winter-specification windshield washer fluid during colder temperatures causes vehicular injuries and fatalities because of reduced or zero visibility. The petitioner explained that summer-specification windshield washer fluid, if left in a vehicle during colder temperatures, freezes at around 32 degrees Fahrenheit, leading to frozen fluid smeared on windshields and reduced or eliminated visibility. The petitioner also stated that summer-specification windshield washer fluid may freeze the windshield washer system in colder temperatures (including the lines, pump, and reservoir), resulting in a potentially damaged windshield washer system, smeared road grime across the windshield, and reduced or no visibility due to the wipers actuating with no spraying washer fluid. Finally, the petitioner stated that there have been manufacturing problems at winter-specification fluid production plants, resulting in winter-specification windshield washer fluid that does not meet the manufacturer's internal requirements and freezes at much higher temperatures than specified.

To address these concerns the petitioner requested that NHTSA eliminate summer-specification windshield washer fluid and mandate the use of standardized winter-specification windshield washer fluid throughout the entire year by modifying FMVSS No. 104 or creating a new FMVSS. The petitioner stated that standardized winter-specification windshield washer fluid should be designed with a low enough freezing point to function properly in the coldest winter temperatures encountered in the U.S., down to minus 40 degrees Fahrenheit, to eliminate the issue of reduced or zero visibility caused by frozen washer fluid on the windshield and/or the freezing of the entire windshield washer system.

Finally, the petitioner suggested that ethanol should be used as a windshield washer fluid additive in lieu of methanol to lower the freezing point for winter use and to address the potential hazards associated with the current use of methanol in windshield washer solvents. The petitioner explained that unlike methanol, a poisonous substance with potentially severe health consequences if ingested or inhaled, ethanol is not poisonous if ingested, does not cause blindness, and poses reduced harm when inhaled as vapor. Additionally, the petitioner suggested that ethanol may offer cost-effectiveness compared to methanol.

III. NHTSA's Analysis and Decision

After thorough review of the petition requesting implementation of a revised or new FMVSS mandating the year-round use of winter washer fluid, NHTSA is denying the petition based on the lack of sufficient data necessary to proceed under the Motor Vehicle Safety Act. The following reasons detail the rationale for the agency's decision.

A. The Petitioner Fails To Present Evidence of an Unmet Motor Vehicle Safety Need

The Safety Act requires that prescribed motor vehicle safety standards meet a motor vehicle safety need.² According to the petitioner, there is an unmet safety need for vehicles that use summer-specification windshield washer fluid during cold temperatures and for vehicles that use winter-specification windshield washer fluid that does not meet temperature freezing requirements. However, the petitioner fails to provide any evidence to quantify the extent and scale of the alleged safety issue, such as the nature, cause, size, and potential severity of the alleged hazard. Instead, after asserting that the use of summer-specification and non-compliant winter-specification windshield washer fluid causes increased injuries and fatalities, the petitioner provides only anecdotal information about such incidents, with no data demonstrating their frequency or severity.

² 49 U.S.C. 30111.

Additionally, although the petitioner raises concerns that colder temperatures may cause windshield washer fluid to freeze on the windshield or within the windshield washer system, the petitioner does not acknowledge FMVSS No. 103, “Windshield defrosting and defogging systems,” which requires vehicles to have adequate defroster systems meeting minimum performance requirements for windshield clearance in below-freezing conditions, down to minus 40 degrees Fahrenheit. NHTSA notes that a properly functioning and compliant defroster is specifically designed to prevent accumulation of frost and frozen precipitation on the windshield by actively raising the windshield's temperature. FMVSS No. 103 also requires that the washer system not fail permanently if it does freeze. Further, for internal combustion engines, as the vehicle's engine reaches operating temperature, the heat generated under the hood helps to maintain the windshield washer system at an elevated temperature during travel, minimizing the risk of washer fluid freezing in the system and preventing the system from operating (this may not be the case for electric vehicles, which may or may not have a heating element to prevent fluid from freezing).

Finally, NHTSA acknowledges that the petitioner suggested as a “side note” that methanol should be substituted for ethanol in winter-specification windshield washer fluid because of methanol's potentially dangerous effects on humans. To the extent that the petitioner is suggesting that ethanol should be required under FMVSS No. 104 or under a new FMVSS, the petitioner does not relate that suggestion to an unmet vehicle safety need, as required by 49 U.S.C. 30111(a).

Based on the above reasons, NHTSA believes that the petitioner has failed to demonstrate a clear need for safety attributable to summer-specification or allegedly non-compliant winter-specification windshield washer fluid. While we agree that failure of the windshield washing system could result in reduced windshield visibility, the petitioner did not provide evidence demonstrating the scope of this potential safety problem or whether such a problem could be attributable to winter-specification windshield washer fluid, nor is it clearly established by available safety data. Accordingly, NHTSA has concluded that the petitioner has not shown an unmet safety need that would justify the mandate to use of year-round standardized winter-specific windshield washer fluid, as required by 49 U.S.C. 30111(a). NHTSA notes that it will not hesitate to exercise its defect and recall authority should any windshield washing system fail and create an unreasonable risk to safety.³

³ 49 U.S.C. 30118.

B. The Petitioner Fails To Demonstrate That a Standardized Winter-Specification Windshield Washer Fluid Would Effectively Address an Unmet Motor Vehicle Safety Need

Even if an unmet motor vehicle safety need exists, the Safety Act requires that an FMVSS meet the motor vehicle safety need.⁴ The petitioner states that reduced or zero windshield visibility can cause accidents resulting in bodily injury and fatalities. The petitioner then suggests that an easily implemented solution to solve this problem is the elimination of summer-specification windshield washer fluid and standardization of winter-specification windshield washer fluid. However, the petitioner's primary support for this suggestion is a personal anecdotal description of an incident in which the petitioner states his windshield washer fluid froze in cold temperatures, obscuring his windshield's visibility and requiring him to pull over and wait for his windshield defroster system to thaw the frozen washer fluid. The petitioner states his belief that this incident occurred because summer-specification windshield washer fluid was added to his car's washer fluid reservoir in a warmer state and froze after he returned to a colder climate. Other than this personal anecdote, the petitioner provides no supporting data or research linking frozen windshield washer fluid to crashes or fatalities to demonstrate that banning summer-specification windshield washer fluid and mandating standardized winter-specification windshield washer fluid would effectively prevent fatalities or injuries. Further, the petitioner provides no supporting data substantiating the scope of the alleged safety issue, nor any evidence that the proposed solution would remedy the alleged safety issue. Absent such supporting data or evidence, NHTSA cannot find that requiring year-round standardized winter-specification windshield fluid would effectively prevent fatalities and injuries.

⁴ Id.

IV. Conclusion

For the foregoing reasons NHTSA is denying the petition based on the lack of sufficient information and evidence discussed above. The petitioner has not demonstrated a safety need and a solution that would justify NHTSA reallocating its limited resources from rulemakings that are mandated by Congress and others that have a demonstrated safety need with solutions available to resolve those needs.

Authority: 49 U.S.C. 322, 30111, 30115, 30117 and 30166; delegation of authority at 49 CFR 1.95.

Issued in Washington, DC, under authority delegated in 49 CFR 1.95, 501.5, and 501.8.
Raymond R. Posten,
Associate Administrator for Rulemaking.

[FR Doc. 2024-18714 Filed 8-21-24; 8:45 am]

BILLING CODE 4910-59-P